INTERNATIONAL TRADE COMMISSION

[USITC SE-24-019]

Sunshine Act Meetings

Agency Holding the Meeting: United States International Trade Commission.

TIME AND DATE: May 17, 2024 at 9:30 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. Nos. Inv. Nos. 701-TA-716-719 and 731-TA-1683-1687 (Preliminary) (Epoxy Resins from China, India, South Korea, Taiwan, and Thailand). The Commission currently is scheduled to complete and file its determinations on May 20, 2024; views of the Commission currently are scheduled to be completed and filed on May 28, 2024.

5. Commission vote on Inv. Nos. 701-TA-710-711 and 731-TA-1673-1674 (Preliminary)(2,4-Dichlorophenoxyace-tic Acid (2,4-D) from China and India). The Commission currently is scheduled to complete and file its determinations on May 20, 2024; views of the Commission currently are scheduled to be completed and filed on May 28, 2024.

6. Outstanding action jackets: none.

CONTACT PERSON FOR MORE INFORMATION: Sharon Bellamy, Supervisory Hearings and Information Officer, 202-205-2000.

The Commission is holding the meeting under the Government in the Sunshine Act, 5 U.S.C. 552(b). In accordance with Commission policy, subject matter listed above, not disposed of at the scheduled meeting, may be carried over to the agenda of the following meeting.

By order of the Commission.
Issued: May 8, 2024.
Sharon Bellamy,
Supervisory Hearings and Information Officer.

[FR Doc. 2024-10389 Filed 5-8-24; 4:15 pm]

BILLING CODE 7020-02-P